DEPARTMENT OF LABOR

Employment and Training Administration

[TA-W-70,749]

Fanuc Robotics America, Inc. Including On-Site Leased Workers From Right Angle Staffing, Inc., Quanta, Inc., Reliance One, Inc., Populus Group, LLC, Citistaff, Global Automation Technologies, LLC, and Proflow Systems Rochester Hills, MI; Notice of Affirmative Determination Regarding Application for Reconsideration

By application received March 22, 2010, the petitioner requested administrative reconsideration of the negative determination regarding workers' eligibility to apply for Trade Adjustment Assistance (TAA) applicable to workers and former workers of the subject firm. The determination was issued on December 18, 2009, and the Notice of Determination was published in the Federal Register on February 16, 2010 (75 FR 7034).

The initial investigation resulted in a negative determination based on the finding that, during the relevant period, Fanuc Robotics America neither imported articles like or directly competitive with the robotic systems produced at the subject firm nor shifted production of robotic systems to a foreign country.

Furthermore, the Department surveyed Fanuc Robotics America's major declining customers regarding purchases of robotic systems in 2007, 2008, and during January through April 2009. The survey revealed negligible imports of robotic systems during the relevant period.

The investigation also revealed that the subject firm was not eligible as a Supplier or a Downstream Producer because they did not supply a component part used by a firm that employed a worker group covered by an active TAA certification.

In the request for reconsideration, the petitioner provided additional information to support a secondary certification. Further, the petitioner had emphasized that subject firm workers had participated in the production process in their customers' plants during the initial installation, testing, and worker training phases that followed the delivery of the subject firm's robotic devices to the customers.

The Department has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 21st day of June, 2010.
Del Min Amy Chen,
Certifying Officer, Division of Trade Adjustment Assistance.

[FR Doc. 2010-16017 Filed 6-30-10; 8:45 am]

BILLING CODE 4510-FN-P